DEPARTMENT OF COMMERCE

International Trade Administration

[A-122-822, A-122-823]

Certain Corrosion-Resistant Carbon Steel Flat Products and Certain Cut-to-Length Carbon Steel Plate From Canada: Amended Final Results of Antidumping Duty Administrative Reviews and Determination Not To Revoke in Part

AGENCY: Import Administration, International Trade Administration, U.S. Department of Commerce.

ACTION: Notice of Amended Final Results of the Antidumping Duty Administrative Review of Certain Corrosion-Resistant Carbon Steel Flat Products and Certain Cut-to-Length Carbon Steel Plate From Canada and Determination Not to Revoke in Part.

SUMMARY: We are amending our final results of the 1998-99 administrative reviews of the antidumping duty orders on Certain Corrosion Resistant Carbon Steel Products and Certain Cut-to-Length Carbon Steel Plate From Canada and Determination Not to Revoke in Part, published on January 16, 2001 (66 FR 3543), to reflect the correction of ministerial errors made in the final results for corrosion resistant carbon steel flat products. We are publishing this amendment to the final results in accordance with 19 CFR part 351 (1999).

EFFECTIVE DATE: February 26, 2001.

FOR FURTHER INFORMATION CONTACT: Elfi Blum or Abdelali Elouaradia, Import Administration, International Trade Administration, U.S. Department of Commerce, 14th Street and Constitution Avenue, NW., Washington DC 20230; telephone (202) 482-0197 and (202) 482-1374, respectively.

SUPPLEMENTARY INFORMATION:

Applicable Statute

Unless otherwise stated, all citations to the statute are references to the provisions effective January 1, 1995, the effective date of the amendments made to the Tariff Act of 1930 (the Act) by the Uruguay Round Agreements Act (URAA). In addition, unless otherwise indicated, all citations to the Department's regulations are to 19 CFR part 351 (1999).

Background

On September 8, 2000, the Department of Commerce (the Department) published in the Federal Register (65 FR 54481) the preliminary results of its 1998-99 administrative reviews of the antidumping duty orders on certain corrosion-resistant carbon steel flat products and certain cut-to-length carbon steel plate from Canada. The Department published the final results of review on January 16, 2001 (66 FR 3543).

On January 16, 2001, we received timely allegations from petitioners (Bethlehem Steel Corporation, U.S. Steel Group (a unit of USX Corporation), Inland Steel Industries, Inc., AK Steel Corporation, LTV Steel Co., Inc. and National) that the Department made ministerial errors in the final results of reviews regarding Continuous Colour Coat, Ltd (CCC). Respondents did not submit any comments in reply to these ministerial error allegations.

Scope of Review

The products covered by these administrative reviews constitute two separate “classes or kinds” of merchandise: (1) Certain corrosion-resistant carbon steel flat products, and (2) certain cut-to-length carbon steel plate.

The first class or kind, certain corrosion-resistant steel, includes flat-rolled carbon steel products, of rectangular shape, either clad, plated, or coated with corrosion-resistant metals such as zinc, aluminum, or zinc-, aluminum-, nickel- or iron-based alloys, whether or not corrugated or painted, varnished or coated with plastics or other nonmetallic substances in addition to the metallic coating, in coils (whether or not in successively superimposed layers) and of a width of 0.5 inch or greater, or in straight lengths which, if of a thickness less than 4.75 millimeters, are of a width of 0.5 inch or greater and which measures at least 10 times the thickness or if of a thickness of 4.75 millimeters or more are of a width which exceeds 150 millimeters and measures at least twice the thickness, as currently classifiable in the Harmonized Tariff Schedule (HTS) under item numbers 7210.30.0030, 7210.30.0060, 7210.41.0000, 7210.49.0030, 7210.49.0090, 7210.61.0000, 7210.69.0000, 7210.70.6030, 7210.70.6060, 7210.70.6090, 7210.90.1000, 7210.90.6000, 7210.90.9000, 7212.20.0000, 7212.30.1030, 7212.30.1090, 7212.30.3000, 7212.30.5000, 7212.40.1000, 7212.40.5000, 7212.50.0000, 7212.60.0000, 7215.90.1000, 7215.90.3000, 7215.90.5000, 7217.20.1500, 7217.30.1530, 7217.30.1560, 7217.90.1000, 7217.90.5030, 7217.90.5060, and 7217.90.5090. Included in this review are corrosion-resistant flat-rolled products of non-rectangular cross-section where such cross-section is achieved subsequent to the rolling process (i.e., products which have been “worked after rolling”)—for example, products which have been beveled or rounded at the edges. Excluded from this review are flat-rolled steel products either plated or coated with tin, lead, chromium, chromium oxides, both tin and lead (“terne plate”), or both chromium and chromium oxides (“tin-free steel”), whether or not painted, varnished or coated with plastics or other nonmetallic substances in addition to the metallic coating. Also excluded from this review are clad products in straight lengths of 0.1875 inch or more in composite thickness and of a width which exceeds 150 millimeters and measures at least twice the thickness. Also excluded from this review are certain clad stainless flat-rolled products, which are three-layered corrosion-resistant carbon steel flat-rolled products less than 4.75 millimeters in composite thickness that consist of a carbon steel flat-rolled product clad on both sides with stainless steel in a 20%-60%-20% ratio.

The second class or kind, certain cut-to-length plate, includes hot-rolled carbon steel universal mill plates (i.e., flat-rolled products rolled on four faces or in a closed box pass, of a width exceeding 150 millimeters but not exceeding 1,250 millimeters and of a thickness of not less than 4 millimeters, not in coils and without patterns in relief), of rectangular shape, neither clad, plated nor coated with metal, whether or not painted, varnished, or coated with plastics or other nonmetallic substances; and certain hot-rolled carbon steel flat-rolled products in straight lengths, of rectangular shape, hot rolled, neither clad, plated, nor coated with metal, whether or not painted, varnished, or coated with plastics or other nonmetallic substances, 4.75 millimeters or more in thickness and of a width which exceeds 150 millimeters and measures at least twice the thickness, as currently classifiable in the HTS under item numbers 7208.40.3030, 7208.40.3060, and 7208.51.0030, 7208.51.0045, 7208.51.0060, 7208.52.0000, 7208.53.0000, 7208.90.0000, 7210.70.3000, 7210.90.9000, 7211.13.0000, 7211.14.0030, 7211.14.0045, 7211.90.0000, 7212.40.1000, 7212.40.5000, 7212.50.0000. Included in this review are flat-rolled products of non-rectangular cross-section where such cross-section is achieved subsequent to the rolling process (i.e., products which have been “worked after rolling”)—for example, products which have been beveled or rounded at the edges. Excluded from this review is grade X-70 plate. Also excluded is cut-to-length carbon steel plate meeting the following criteria: (1) 100% dry steel plates, virgin steel, no scrap content (free of Cobalt-60 and other radioactive nuclides); (2) .290 inches maximum thickness, plus 0.0, minus .030 inches; (3) 48.00 inch wide, plus .05, minus 0.0 inches; (4) 10 foot lengths, plus 0.5, minus 0.0 inches; (5) flatness, plus/minus 0.5 inch over 10 feet; (6) AISI 1006; (7) tension leveled; (8) pickled and oiled; and (9) carbon content, 0.3 to 0.8 (maximum).

With respect to both classes or kinds, the HTS item numbers are provided for convenience and Customs purposes. The written description remains dispositive of the scope of these reviews.

Amended Final Results

CCC

Comment 1: Petitioners allege that, for CCC, the Department did not include indirect selling expenses in the home market, as reported by CCC in its questionnaire response, in its calculation of total cost of production and constructed value (CV).

Department's Position: In its calculations the Department had intended to include indirect selling expenses in the calculation of total cost of production and of CV. This omission constitutes a ministerial error in accordance with section 351.224(f) of the Department's regulations. Accordingly, for these amended final results, we have corrected this error by including the reported indirect selling expenses in our calculations of total cost of production and CV in our model match program.

Comment 2: Petitioners state that, for CCC, the Department incorrectly subtracted packing expenses in its calculations of net price, for cost test purposes, because packing expenses are included in the total cost of production. Moreover, petitioners assert that to make a proper cost to price comparison, packing expenses have to be included in both calculations. Finally, petitioners argue that the Department also failed to subtract the movement expenses from the gross unit price.

Department's Position: We agree with petitioners on both issues. We incorrectly subtracted CCC's packing expenses, instead of movement expenses, from gross unit price to arrive at a net price for cost comparison. For these amended final results, we have corrected the ministerial errors by only subtracting movement expenses to arrive at a gross unit price, for cost comparison purposes, inclusive of packing.

As a result of these corrections, the margin for corrosion-resistant carbon steel flat products from Canada for CCC has changed from 1.81 percent to 2.11 percent.

Amended Final Results of Review

Upon review of the submitted allegations, the Department has determined that the following margins exist for the period August 1, 1998, through July 31, 1999:

Manufacturer/exporter | Margin (percent)
Certain Corrosion-Resistant Carbon Steel Flat Products:
Continous Colour Coat, Ltd | 2.11
Dofasco Inc. and Sorevco Inc | 0.51
Certain Cut-to-Length Carbon Steel Plate:
Clayson Steel Co | 0.27
Gerdau MRM Steel Co | 0.00
Metaux Russel Inc | 68.70

The Department will determine, and the U.S. Customs Service shall assess, antidumping duties on all appropriate entries. For assessment purposes, we have calculated importer-specific ad valorem duty assessment rates for the merchandise based on the ratio of the total amount of antidumping duties calculated for the examined sales to the total quantity of sales examined. The Department will issue appraisement instructions directly to the Customs Service.

Furthermore, the following deposit requirements will be effective upon publication of these amended final results for all shipments of the subject merchandise entered, or withdrawn from warehouse, for consumption on or after the publication date as provided by section 751(a)(1) of the Act: (1) The cash deposit rate for each reviewed company will be the rate stated above (except that no deposit will be required for firms with zero or de minimis margins, i.e., margins less than 0.5 percent); (2) for exporters not covered in this review, but covered in the less-than-fair-value (LTFV) investigation or a previous review, the cash deposit rate will continue to be the company-specific rate published for the most recent period; (3) if the exporter is not a firm covered in this review, a previous review, or the original LTFV investigation, but the manufacturer is, the cash deposit rate will be the rate established for the most recent period for the manufacturer of the merchandise; and (4) the cash deposit rate for all other manufacturers or exporters will continue to be the “all others” rates established in the LTFV investigations, which were 18.71 percent for corrosion-resistant steel products and 61.88 percent for plate (see Amended Final Determination of Sales at Less than Fair Value and Anti-Dumping Orders: Certain Corrosion Resistant Carbon Steel Flat Products and Certain Cut-to-Length Carbon Steel Plate from Canada, 60 FR 49582 (September 26, 1995)). These deposit requirements, when imposed, shall remain in effect until publication of the final results of the next administrative reviews.

This administrative review and notice are issued and published in accordance with sections 751(a)(1) and (a)(2)(A) of the Act (19 U.S.C. 1675(a)) and 19 CFR 351.213 and 19 CFR 351.221(b)(5). Effective January 20, 2001, Bernard T. Carreau is fulfilling the duties of the Assistant Secretary for Import Administration.

Dated: February 16, 2001.
Bernard T. Carreau,
Deputy Assistant Secretary for Import Administration.

[FR Doc. 01-4663 Filed 2-23-01; 8:45 am]

BILLING CODE 3510-DS-P